DELAWARE RIVER BASIN COMMISSION

Notice of Commission Meeting and Public Hearing

Notice is hereby given that the Delaware River Basin Commission will hold an informal conference followed by a public hearing on Wednesday, September 3. The hearing will be part of the Commission's regular business meeting. Both the conference session and business meeting are open to the public and will be held at the Commission's offices at 25 State Police Drive, West Trenton, New Jersey.

The conference among the commissioners and staff will begin at 9 a.m. Topics of discussion will include: an update on development of the Water Resources Plan for the Delaware River Basin; an update on the Tri-State Initiative for watershed management in the 300-square mile area surrounding Port Jervis, New York; a presentation by a representative of the Wildlands Conservancy on the conservation management plan for the Lehigh River Watershed; consideration of whether toxics criteria should be extended to DRBC Water Quality Management Zones 1 and 6; consideration of whether the DRBC should make any additional designations of intra-state tributaries as Outstanding Basin Waters; and a presentation on the proposed submittal to the United States Environmental Protection Agency (EPA), Regions II and III, of four total maximum daily loads (TMDLs) for polychlorinated biphenyls (PCBs) in Delaware River Zones 2 through 5.

The subjects of the public hearing to be held during the 1:30 p.m. business meeting include, in addition to the dockets listed below, consideration of a petition submitted by the Pennsylvania Suburban Water Company to suspend Commission approval of Docket D-98-11(CP), the “Cornog Quarry” surface water withdrawal project, located in the East Branch Brandywine Creek Watershed in Wallace Township, Chester County, Pennsylvania.

1. Borough of Weatherly D-80-80 CP RENEWAL 3. A ground water renewal project with an increase of withdrawal from 12 million gallons (mg)/30 days to 14.2 mg/30 days to supply the applicant's distribution system from existing Wells Nos. 1, 2, and 3 in the Black Creek Watershed. The project is located in Weatherly Borough, Carbon County, Pennsylvania.

2. Town of Clayton D-84-34 CP RENEWAL 3. A ground water withdrawal renewal project to continue pumping 8.5 mg/30 days of water to supply the applicant's public water supply distribution system from existing Wells Nos. 1, 2R and 3 in the Smyrna River Watershed. The project is located in the Town of Clayton, Kent County, Delaware.

3. Pottstown Plating Works, Inc. D-86-68 RENEWAL 2. A ground water withdrawal project to continue withdrawal of 6.0 mg/30 days of water to supply the applicant's manufacturing facility from existing Well No. 3 in the Schuylkill River Watershed. The project is located in Pottstown Borough, Montgomery County in the Southeastern Pennsylvania Ground Water Protected Area.

4. Motiva Enterprises, LLC D-87-91 RENEWAL 2. A ground water renewal project to continue withdrawal of 3.0 mg/30 days from an interceptor trench as part of the applicant's oil recovery/groundwater decontamination project in the Red Lion Creek Watershed. The project is located in New Castle County, Delaware.

5. Longwood Gardens, Inc. D-92-52 RENEWAL. A ground water renewal project to continue withdrawal of 8.4 mg/30 days to supply the applicant's ornamental display gardens from existing Wells Nos. B170, B172, 6, 27, B169A, and B16IWG, and new Wells Nos. 169B, Red Lion 28, and B46 in the West Branch Red Clay Creek and West Branch Brandywine Creek watersheds. The project is located in East Marlborough Township, Chester County, Pennsylvania.

6. Atlantic City Electric Company-Deepwater Generating Station D-92-57 RENEWAL. A ground water withdrawal project to continue withdrawal of 42 mg/30 days of water to supply the applicant's electric generating facility from existing Wells Nos. 2, 3R, 5 and 7 in the Middle Potomac-Raritan-Magothy aquifer. The project is located in the Delaware River Watershed in Pennsville Township, Salem County, New Jersey.

7. Motiva Enterprises, LLC D-93-4 RENEWAL. A ground water renewal project to continue withdrawal of 180 mg/30 days to supply the applicant's refinery and electric generation station from existing Wells Nos. P-1A, P-3B, P-4A, P-5B, P-6A, P-9, P-10A, R-15, and P-16A. The project is located in the C & D Canal East Watershed in New Castle County, Delaware.

8. United Corrstack, Inc. D-93-40 RENEWAL. A ground water withdrawal project to continue withdrawal of 17.28 mg/30 days of water to supply the applicant's manufacturing facility from existing Well No. 1 in the Schuylkill River Watershed. The project is located in the City of Reading, Berks County, Pennsylvania.

9. Pennsylvania American Water Company D-97-34 CP. A project to replace Well No. 10 in the applicant's water supply system, which has become an unreliable source of supply. The withdrawal from replacement Well No. 10A is proposed to be limited to 17.2 mg/30 days, and the total withdrawal from all wells is proposed to be limited to 22.8 mg/30 days. The project is located in the Saw Creek Watershed in Lehman Township, Pike County, Pennsylvania.

10. Nestlé Waters North America, Inc. D-98-27 RENEWAL. A project renewing the withdrawal of 9.0 mg/30 days from Hoffman Springs Nos. 1, 2, and 3 to supply the applicant's bottled water operations. The project is located in the Ontelaunee Creek Watershed in Lynn Township, Lehigh County, Pennsylvania.

11. Lower Perkiomen Valley Regional Sewer Authority D-2001-42 CP An application to rerate the Oaks Sewage Treatment Plant (STP) from 9.17 million gallons per day (mgd) to 9.5 mgd. The plant will continue to provide advanced secondary treatment via an anoxic/oxic process. The Oaks STP is located at the confluence of the Perkiomen Creek and the Schuylkill River in Upper Providence Township, Montgomery County, Pennsylvania. The project will continue to serve portions of Upper Providence, Lower Providence, Perkiomen, and Skippack Townships, plus Collegeville and Trappe Boroughs, all in Montgomery County. STP effluent will continue to be discharged to the Schuylkill River through the existing outfall.

12. City of Newark D-2002-2 CP. An application to increase the surface water withdrawal allocation from White Clay Creek from 150 mg per 30 days to 317 mg per 30 days (18 mg daily maximum) for direct diversion to the City of Newark's Curtis Filtration Plant and for storage in its new 317 mg off-stream reservoir. The City is also renewing allocation for its existing well supply system and adding replacement Well 17R, for a total combined increase in its groundwater allocation from 144 mg/30 days to 160.5 mg/30 days via Wells 10 through 16, 17R, 19, 20, 21, 23 and 25. The project is located in, and will continue to provide public water supply to, the City of Newark and portions of New Castle County, Delaware. The proposed off-stream earthen reservoir will be located on a 112 acre property along and to the north of Old Paper Mill Road.

13. Artesian Water Company, Inc. D-2002-34 CP. A revised application for approval of a ground water withdrawal project to supply up to 19.44 mg/30 days of water to the applicant's public water supply distribution system from new Well No. 2 in the Middle Run Wellfield and new Well No. fASR in the Fairwinds Wellfield, and to increase the combined withdrawal from all 15 wellfields to 593.06 mg/30 days. The project is located in the White Clay Creek Watershed in New Castle County, Delaware.

14. Nazareth Borough Municipal Authority D-2002-38 CP. An application to rerate a 1.3 mgd STP to treat 1.6 mgd, while continuing to provide advanced secondary treatment via a sequencing batch reactor process. The plant is located just southeast of the intersection of Van Buren and Nazareth Roads in Lower Nazareth Township, Northampton County, Pennsylvania. No new treatment facilities are proposed and the STP will continue to discharge to Shoeneck Creek, in the Bushkill Creek Watershed, via the existing outfall. The STP will continue to serve Nazareth Borough and portions of Lower Nazareth, Bushkill, and Upper Nazareth Townships, all in Northampton County, Pennsylvania.

15. Farda Associates, Inc. D-2003-7. A project to construct a 0.1 mgd STP to serve outlet stores and a food court at the proposed Tannersville Factory Stores Complex located just west of Interstate Route 80 at Pennsylvania Route 715 in Pocono Township, Monroe County, Pennsylvania. An existing 10,000 gallon per day (gpd) septic system, formerly utilized for the Summit Resort, will be used to treat a portion of the proposed development. The proposed STP will be constructed in phases and will provide tertiary treatment via an activate sludge process, sand filtration, and ultraviolet light disinfection prior to discharge to an unnamed tributary of Pocono Creek in the Brodhead Creek Watershed.

16. Arrowhead Sewer Co., Inc. D-2003-10. A project to upgrade and expand a 0.25 mgd secondary STP to provide tertiary treatment of 0.4 mgd. The plant is located in western Coolbaugh Township, Monroe County, Pennsylvania, 2000 feet southwest of the Thornhurst area. The project will continue to serve the Arrowhead Lakes residential development in Coolbaugh Township. The project will continue to discharge to the adjacent Lehigh River.

17. Bedminster Municipal Authority D-2003-14 CP. A project to construct a 0.26 mgd tertiary STP to replace a 0.1 mgd secondary STP. The STP will continue to serve the Stone Bridge Estates housing development, and may serve other homes in portions of Bedminster Township, all in Bucks County, Pennsylvania. STP effluent will continue to be discharged to Deep Run in the Tohickon Creek Watershed through the existing outfall.

18. Citgo Asphalt Refining Company D-2003-21. A project to increase surface water withdrawal from the tidal portion of Mantua Creek from 4.69 mg/30 days to 7.79 mg/30 days to serve the applicant's asphalt manufacturing process. The project is located in West Deptford Township, Gloucester County, New Jersey. The project intake is situated on Mantua Creek approximately 4,000 feet from its confluence with the Delaware River.

In addition to the public hearing items, the Commission will address the following at its 1:30 p.m. business meeting: Minutes of the May 8, 2003 and June 26, 2003 business meetings; announcements; a report on Basin hydrologic conditions; a report by the executive director; a report by the Commission's general counsel; a resolution supporting the use of a formal process for developing and evaluating the feasibility of achieving flow targets to address instream flow and freshwater inflow requirements for aquatic ecosystems in the Delaware River Basin, and recognizing a subcommittee on ecological flows to assist in the development of scientifically-based ecological flow requirements; and a resolution directing the executive director to submit the proposed TMDLs for PCBs in Delaware River Zones 2 through 5 to EPA Regions II and III on behalf of the estuary states.

Draft dockets scheduled for public hearing on September 3, 2003 are posted on the Commission's Web site, http://www.drbc.net, where they can be accessed through the Notice of Commission Meeting and Public Hearing. Additional documents relating to the dockets and other items may be examined at the Commission's offices. Please contact Thomas L. Brand at 609-883-9500 ext. 221 with any docket-related questions.

Persons wishing to testify at this hearing are requested to register in advance with the Commission Secretary at 609-883-9500 ext. 203. Individuals in need of an accommodation as provided for in the Americans with Disabilities Act who wish to attend the hearing should contact the Commission Secretary directly at 609-883-9500 ext. 203 or through the Telecommunications Relay Services (TRS) at 711, to discuss how the Commission may accommodate your needs.

Dated: August 12, 2003.
Pamela M. Bush, Esquire,
Commission Secretary.

[FR Doc. 03-20992 Filed 8-15-03; 8:45 am]

BILLING CODE 6360-01-P